DEPARTMENT OF ENERGY

Federal Energy Regulatory Commission

Notice of Effectiveness of Exempt Wholesale Generator Status

| Docket Nos.
Doc Brown LLC | EG23-1-000
Pleasant Hill Solar, LLC | EG23-2-000
Watlington Solar, LLC | EG23-4-000
Baron Winds LLC | EG23-5-000
Buena Vista Energy Center, LLC | EG23-6-000
EnerSmart Imperial Beach BESS LLC | EG23-7-000
EnerSmart Mesa Heights BESS LLC | EG23-8-000
FGE Goodnight I LLC | EG23-9-000
AL Solar D, LLC | EG23-10-000
Resurgence Solar I, LLC | EG23-11-000
Resurgence Solar II, LLC | EG23-12-000
West Line Solar, LLC | EG23-13-000
Daggett Solar Power 1 LLC | EG23-14-000
Daggett Solar Power 2 LLC | EG23-15-000
CED Timberland Solar, LLC | EG23-16-000
Daggett Solar Power 3 LLC | EG23-17-000
Old Gold Energy Center, LLC | EG23-18-000
Arroyo Solar LLC | EG23-19-000
Arroyo Energy Storage LLC | EG23-20-000

Take notice that during the month of December 2022, the status of the above-captioned entities as Exempt Wholesale Generators became effective by operation of the Commission's regulations. 18 CFR 366.7(a) (2021).

Dated: January 4, 2023.
Debbie-Anne A. Reese,
Deputy Secretary.

[FR Doc. 2023-00256 Filed 1-9-23; 8:45 am]

BILLING CODE 6717-01-P